DEPARTMENT OF COMMERCE

National Oceanic and Atmospheric Administration

RIN 0648-XC718

New England Fishery Management Council (NEFMC); Public Meeting

AGENCY: National Marine Fisheries Service (NMFS), National Oceanic and Atmospheric Administration (NOAA), Commerce.

ACTION: Notice of cancellation of a public meeting.

SUMMARY: The New England Fishery Management Council (Council) has cancelled the public meeting of its Ad hoc Sturgeon Committee that was scheduled for Wednesday, June 26, 2013 beginning at 9:30 a.m. in Holiday Inn, Peabody, MA.

FOR FURTHER INFORMATION CONTACT: Thomas A. Nies, Executive Director, New England Fishery Management Council; telephone: (978) 465-0492.

SUPPLEMENTARY INFORMATION: The initial notice was published on June 10, 2013 (78 FR 34654) and the meeting will be rescheduled at a later date and announced in the Federal Register.

Authority: 16 U.S.C. 1801 et seq.

Dated: June 18, 2013.
Tracey L. Thompson,
Acting Deputy Director, Office of Sustainable Fisheries, National Marine Fisheries Service.

[FR Doc. 2013-14934 Filed 6-21-13; 8:45 am]

BILLING CODE 3510-22-P